DEPARTMENT OF LABOR

Office of the Secretary

Submission for OMB Review: Comment Request

July 16, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension of a currently approved collection.

Title: Annual Refiling Survey.

OMB Number: 1220-0032.

Frequency: Annually.

Type of Response: Reporting.

Affected Public: Individuals or households; Business or other for-profit; Not-for-profit institutions; Farms; Federal Government; and State, local, or tribal government.

Number of Respondents: 2,488,105.

Form | Annual responses | Average response time (hours) | Annual burden hours
BLS-3023-NVS | 2,286,757 | 0.083 | 189,801
BLS-3023-NVM | 35,951 | 0.25 | 8,988
BLS-3023-NCA | 165,397 | 0.167 | 27,621
FY 2005 Total | 2,488,105 |  | 226,409

Total Annualized capital/startup costs: $0.

Total Annual Costs (operating/maintaining systems or purchasing services): $0.

Description: The Annual Refiling Survey forms are used to verify and update existing 2002 North American Industry Classification System codes. They also are used to update employers' business names and addresses and other geographical information. In addition, the forms provide a source of multiple worksite information, which is critical to the development of the BLS Business Establishment List (BEL). The BEL serves as a sampling frame and a benchmark for many BLS surveys.

Darrin A. King,
Acting Departmental Clearance Officer.

[FR Doc. 04-16687 Filed 7-21-04; 8:45 am]

BILLING CODE 4510-24-P